DEPARTMENT OF EDUCATION

[Docket ID ED-2020-OSERS-0042]

Privacy Act of 1974; System of Records

AGENCY: Office of Special Education and Rehabilitative Services, Department of Education.

ACTION: Notice of a modified system of records.

SUMMARY: In accordance with the Privacy Act of 1974, as amended (Privacy Act), the U.S. Department of Education (the Department) publishes this notice of a modified system of records entitled “Case Service Report (RSA-911)” (18-16-02), last published in full in the Federal Register on April 8, 2004. The system contains information on individuals who are participating in or who have exited from the State Vocational Rehabilitation (VR) Services program, and the State Supported Employment (SE) Services program as applicable.

DATES: Submit your comments on or before August 31, 2020.

This modified system of records will become applicable upon publication in the Federal Register on July 31, 2020. New routine use disclosures (9) and (10), and significantly modified routine uses (3), (4), and (5), outlined in the ROUTINE USES OF RECORDS MAINTAINED IN THE SYSTEM, INCLUDING CATEGORIES OF USERS AND PURPOSES OF SUCH USES will become applicable on August 31, 2020, unless the modified system of records notice needs to be changed as a result of public comment. The Department will publish any significant changes resulting from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this modified system of records, address them to: Chief, Data Collection & Analysis Unit, Rehabilitation Services Administration, Office of Special Education and Rehabilitative Services, U.S. Department of Education, 550 12th Street SW, Washington, DC 20202-2800.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Christopher Pope, Chief, Data Collection & Analysis Unit, Rehabilitation Services Administration, Office of Special Education and Rehabilitative Services, U.S. Department of Education, 550 12th Street SW, Washington, DC 20202-2800. Telephone: (202) 245-7375.

If you use a telecommunications device for the deaf or text telephone, you may call the Federal Relay Service at 1-800-877-8339.

SUPPLEMENTARY INFORMATION: The Department is updating the name of the system from “RSA-911 Case Service Report” to “Case Service Report (RSA-911)” and the section of the notice entitled “SECURITY CLASSIFICATION” by revising it from “none” to “unclassified.”

In this modified system of records notice, the Department updates the sections entitled “SYSTEM LOCATION” and “SYSTEM MANAGER(S)” to reflect a revised organizational structure within the Rehabilitation Services Administration (RSA), which is housed within the Department's Office of Special Education and Rehabilitative Services. The update also reflects RSA's new address.

In this modified system of records notice, the Department updates the section entitled “AUTHORITY FOR MAINTENANCE OF THE SYSTEM.” Specifically, the Department adds references to sections 106 and 607 of the Rehabilitation Act of 1973 (the Act), as well as section 116 of the Workforce Innovation and Opportunity Act (WIOA), to reflect data collection and reporting requirement changes made by WIOA and its amendments to the Act. All data collected through the “Case Service Report (RSA-911)” are necessary to satisfy statutory requirements and programmatic purposes of the VR and SE programs.

The Department updates the section of this notice entitled “PURPOSE(S) OF THE SYSTEM” to reflect amendments to the Act made by WIOA. Specifically, the Department makes clear that the data collected and maintained by this system will be used for performance and accountability purposes in addition to program research and evaluation.

The Department updates the section of this notice entitled “CATEGORIES OF INDIVIDUALS COVERED BY THE SYSTEM” to reflect statutory requirements made by amendments to the Act by WIOA. The system collects data on individuals who are participating in, as well as those who have exited from, the VR program, and the SE program as applicable, each program year. This means that the data collected is from both open service records, as well as from closed service records, from both of those programs. Under the former system of records, the Department used the system to collect data on only individuals who had exited the VR program.

The Department updates the section of this notice entitled “CATEGORIES OF RECORDS IN THE SYSTEM” by expanding the personal and demographic information collected in order to comply with statutory requirements imposed by WIOA and its amendments to the Act. Some of the additional demographic data collected include ex-offender status and other barriers to employment information, all of which are consistent with the data collection requirements of the Act and WIOA.

The Department updates the section of this modified system of records notice entitled “RECORD SOURCE CATEGORIES” to explain the source of the data reported by State VR agencies through the “Case Service Report (RSA-911).” Specifically, we make clear that State VR agencies collect the data directly from individuals with disabilities, employers, educational institutions, and the State-level interagency exchange of data (e.g., State Unemployment Insurance Agencies' wage records).

With respect to the section of this modified system of records notice entitled “ROUTINE USES OF RECORDS MAINTAINED IN THE SYSTEM, INCLUDING CATEGORIES OF USERS AND THE PURPOSES OF SUCH USES,” the Department updates routine uses (3), (4), and (5) permitting disclosures to contractors, disclosures in the course of litigation or alternative dispute resolution, and disclosures to researchers, respectively. Specifically, we clarify in routine uses (3) and (5) that contractors and researchers receiving data maintained in this system of records must agree to establish and maintain safeguards to protect the security and confidentiality of the disclosed records and that contractors must agree to do so as part of such a contract, rather than before entering into such a contract. In routine use (4) entitled “Litigation and Alternative Dispute Resolution (ADR) Disclosure,” the Department inserts the word “person” in place of the word “individual” to avoid public confusion that may have been caused by the Department's prior use of the word “individual,” given that this term is defined in the Privacy Act, and clarifies that references to “litigation” cover both judicial and administrative litigation.

The Department eliminates former routine use (8), entitled “Disclosure for Use By Other Law Enforcement Agencies.” The Department has determined that this routine use would not be compatible with purposes of this system of records.

The Department also eliminates former routine use (10) entitled “Disclosure to the Veterans' Disability Benefits Commission.” The Department has determined that this routine use is no longer needed for the data maintained in this system because the Department does not share data with this entity.

The Department adds two new routine uses numbered (9) entitled “Disclosure in the Course of Responding to a Breach of Data” and routine use (10) entitled “Disclosure in Assisting Another Agency in Responding to a Breach of Data” in accordance with the requirements set forth by the Office of Management and Budget (OMB) in OMB M-17-12 entitled “Preparing for and Responding to a Breach of Personally Identifiable Information.”

The Department updates the section of this notice entitled “POLICIES AND PRACTICES FOR STORAGE OF RECORDS” to reflect that records are no longer maintained on a computer mainframe, in compact discs, or in printed reports that contain sensitive data produced by this system, but rather only in database servers. The Department no longer maintains hard copies of records.

The Department is updating the section of this notice entitled “POLICIES AND PRACTICES FOR RETENTION AND DISPOSAL OF RECORDS” to remove the statement that the National Archives and Records Administration (NARA) General Records Schedule 20, Item 1.c, applies to the records in this system; and, to indicate that the Department will submit a retention and disposition schedule that covers the records in the system to NARA for review, and will not destroy the records until such time as NARA approves said schedule. The Department also updates this section of this notice to remove the reference to hard-copy printouts created to monitor system usage because records are maintained solely in the database server.

The Department updates the section of this notice entitled “ADMINISTRATIVE, TECHNICAL, AND PHYSICAL SAFEGUARDS” that protect the records in this system. Specifically, the Department updated the guidelines and procedures for protecting sensitive data and resources in this system by requiring two-factor authentication to access the Department of Education network and by prohibiting the copying of files to portable electronic media such as compact discs or USB drives.

The Department updates the sections entitled “RECORD ACCESS PROCEDURES,” “CONTESTING RECORD PROCEDURES” and “NOTIFICATION PROCEDURES” to define and discuss the “necessary particulars” needed to access, contest, and be notified of a record. Finally, the Department adds a new section to the system of records notice entitled “HISTORY,” in compliance with the requirements set forth in OMB Circular No. A-108, to explain that the last full system of records for the Case Service Report (RSA-911) was published in the Federal Register on April 8, 2004 (69 FR 18724).

The personal information maintained in this system of records entitled “Case Service Report (RSA-911)” includes, but is not limited to, the following: Social Security number (SSN), date of birth (DOB), gender, disability characteristics, demographic information including race and ethnicity, services and training received, health insurance, employment status, employment outcomes, earnings, ex-offender status, other barriers to employment, and other program data elements included in the RSA-911. The information covered by this system of records will be collected from State VR agencies. This information collection is mandated by the Act, as amended by title IV of WIOA, as well as by section 116 of WIOA. Specifically, sections 101(a)(10) and 106 of the Act contain data collection and reporting requirements under the VR program and section 607 of the Act contains relevant data collection requirements under the SE program. Furthermore, section 116 of WIOA requires the VR agencies to collect and report certain data for purposes of the common performance accountability system applicable to all six core programs of the workforce development system, including the VR program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov.

At this site, you can view this document, as well as all other documents of this Department published in the Federal Register, in text or Portable Document Format (PDF). To use PDF, you must have Adobe Acrobat Reader which is available free at this site.

You may also access documents of the Department published in the Federal Register by using the article search feature at: www.federalregister.gov. Specifically, through the advanced search feature at this site, you can limit your search to documents published by the Department.

Mark Schultz,
Commissioner, Rehabilitation Services Administration, Delegated the authority to perform the functions and duties of the Assistant Secretary for the Office of Special Education and Rehabilitative Services.

For the reasons discussed in the preamble, the Assistant Secretary for Special Education and Rehabilitative Services of the U.S. Department of Education publishes a notice of a modified system of records to read as follows:

SYSTEM NAME AND NUMBER:

Case Service Report (RSA-911) (18-16-02).

SECURITY CLASSIFICATION:

Unclassified.

SYSTEM LOCATION:

Data Collection & Analysis Unit, Rehabilitation Services Administration, Office of Special Education and Rehabilitative Services, U.S. Department of Education, 550 12th Street SW, Washington, DC 20202-2800.

SYSTEM MANAGER(S):

Chief, Data Collection & Analysis Unit, Rehabilitation Services Administration, Office of Special Education and Rehabilitative Services, U.S. Department of Education, 550 12th Street SW, Washington, DC 20202-2800.

AUTHORITY FOR MAINTENANCE OF THE SYSTEM:

The Rehabilitation Act of 1973 (the Act), as amended by title IV of the Workforce Innovation and Opportunity Act (WIOA), as well as by section 116 of WIOA. Specifically, sections 101(a)(10) and 106 of the Act contain data collection and reporting requirements under the State Vocational Rehabilitation (VR) Services program, and section 607 of the Act contains relevant data collection requirements under the State Supported Employment (SE) Services program. Furthermore, section 116 of WIOA requires VR agencies to collect and report certain required data for purposes of the common performance accountability system applicable to all six core programs of the workforce development system, including the VR program.

PURPOSE(S) OF THE SYSTEM:

This system of records is maintained for program performance and accountability, and for research, monitoring, and evaluation purposes and is required by the Act and title I of WIOA.

CATEGORIES OF INDIVIDUALS COVERED BY THE SYSTEM:

The system contains records on individuals who are participating in or who have exited from the VR program, and the SE program as applicable, during each program year.

CATEGORIES OF RECORDS IN THE SYSTEM:

This system of records contains records relating to individuals who are participating in or who have exited the VR program and SE program, as applicable, including, but not limited to the following: Social Security number (SSN), date of birth (DOB), gender, disability characteristics, demographic information including race and ethnicity, services and training, health insurance, employment status, employment outcomes, earnings, ex-offender status, other barriers to employment, and other program data elements noted in the RSA-911.

RECORD SOURCE CATEGORIES:

The information in this system is obtained from State VR agencies pursuant to Federal reporting requirements. These agencies collect data directly from individuals with disabilities, employers, educational institutions, and the State-level interagency exchange of data (e.g., State Unemployment Insurance Agencies' wage records).

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement.

(1) Freedom of Information Act (FOIA) and Privacy Act Advice Disclosure. The Department may disclose records to the U.S. Department of Justice (DOJ) or the Office of Management and Budget (OMB) if the Department seeks advice regarding whether records maintained in the system of records must be released under the FOIA or the Privacy Act.

(2) Disclosure to the DOJ. The Department may disclose records to the DOJ to the extent necessary for obtaining DOJ advice on any matter relevant to an audit, inspection, or other inquiry related to the programs covered by this system.

(3) Contract Disclosure. If the Department contracts with an entity for the purposes of performing any function that requires disclosure of records in this system to employees of the contractor, the Department may disclose the records to those employees. As part of such a contract, the Department shall require the contractor to agree to establish and maintain safeguards to protect the security and confidentiality of the disclosed records.

(4) Litigation and Alternative Dispute Resolution (ADR) Disclosure.

(a) Introduction. In the event that one of the parties listed in sub-paragraphs (i) through (v) is involved in judicial or administrative litigation or ADR, or has an interest in litigation or ADR, the Department may disclose certain records to the parties described in paragraphs (b), (c), and (d) of this routine use under the conditions specified in those paragraphs:

(i) The Department, or any of its components;

(ii) Any Department employee in his or her official capacity;

(iii) Any Department employee in his or her individual capacity if the DOJ agrees or has been requested to provide or to arrange for representation of the employee;

(iv) Any Department employee in his or her individual capacity if the Department has agreed to represent the employee; or

(v) The United States if the Department determines that the litigation is likely to affect the Department or any of its components.

(b) Disclosure to the DOJ. If the Department determines that disclosure of certain records to the DOJ is relevant and necessary to judicial or administrative litigation or ADR and is compatible with the purpose for which the records were collected, the Department may disclose those records as a routine use to the DOJ.

(c) Adjudicative Disclosure. If the Department determines that it is relevant and necessary to the judicial or administrative litigation or ADR to disclose certain records to an adjudicative body before which the Department is authorized to appear, or to a person or an entity designated by the Department or otherwise empowered to resolve or mediate disputes, the Department may disclose those records as a routine use to the adjudicative body, person, or entity.

(d) Disclosure to Parties, Counsel, Representatives, and Witnesses. If the Department determines that disclosure of certain records to a party, counsel, representative, or witness is relevant and necessary to the judicial or administrative litigation or ADR, the Department may disclose those records as a routine use to the party, counsel, representative, or witness.

(5) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to agree to establish and maintain safeguards to protect the security and confidentiality of the disclosed records.

(6) Congressional Member Disclosure. The Department may disclose information to a Member of Congress from the record of an individual in response to an inquiry from the Member made at the written request of that individual. The Member's right to the information is no greater than the right of the individual who requested it.

(7) Enforcement Disclosure. If information in this system of records indicates, either on its face or in connection with other information, a violation or potential violation of any applicable statute, regulations, or order of a competent authority, the Department may disclose the relevant records to the appropriate agency, whether foreign, Federal, State, tribal, or local, charged with the responsibility of investigating or prosecuting that violation or charged with enforcing or implementing the statute, Executive order, rule, regulations, or order issued pursuant thereto.

(8) Disclosure to Other Federal Agencies. The Department may disclose records to other Federal agencies, including the Social Security Administration and the U.S. Department of Veterans Affairs, for program research and evaluation purposes.

(9) Disclosure in the Course of Responding to a Breach of Data. The Department may disclose records to appropriate agencies, entities, and persons when (a) the Department suspects or has confirmed that there has been a breach of the system of records; (b) the Department has determined that as a result of the suspected or confirmed breach there is a risk of harm to individuals, the Department (including its information systems, programs and operations), the Federal Government, or national security; and (c) the disclosure made to such agencies, entities, and persons is reasonably necessary to assist in connection with the Department's efforts to respond to the suspected or confirmed breach or to prevent, minimize, or remedy such harm.

(10) Disclosure in Assisting Another Agency in Responding to a Breach of Data. The Department may disclose records from this system to another Federal agency or Federal entity, when the Department determines that information from this system of records is reasonably necessary to assist the recipient agency or entity in (a) responding to a suspected or confirmed breach; or (b) preventing, minimizing, or remedying the risk of harm to individuals, the recipient agency or entity (including its information systems, programs, and operations), the Federal Government, or national security, resulting from a suspected or confirmed breach.

POLICIES AND PRACTICES FOR STORAGE OF RECORDS:

System records are maintained in database servers.

POLICIES AND PRACTICES FOR RETRIEVAL OF RECORDS:

Each record in this system can be retrieved by any of the categories of information listed under the CATEGORIES OF RECORDS IN THE SYSTEM section in this notice.

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Access to this system will require a unique user identification as well as a password to enter the system. Users will be required to change their passwords periodically, and they will not be allowed to repeat old passwords. Any individual attempting to log on who fails is locked out of the system after three attempts. Access after that time requires intervention by the system manager.

The computer system employed by the Department offers a high degree of resistance to tampering and circumvention. This security system limits data access to Department and contract staff on a “need to know” basis and controls individual users' ability to access and alter records within the system.

The location of the server includes safeguards and firewalls, including the physical security of the server room. In addition, the server is located in a secure room, with limited access only through a special pass. Further, all physical access to the site where the server is maintained is controlled and monitored by security personnel who check each individual entering the building for his or her employee or visitor badge.

In addition to these controls, the Department's policies and procedures require that computers are not left unattended when users access the database and require that sensitive information is placed out of sight if visitors are present.

The Department's policies and procedures ensure that shared output does not contain sensitive information and that aggregated data cannot be used to identify individuals.

In addition, the following guidelines and procedures have been implemented for protecting sensitive data and resources in this system:

• Users must use two-factor authentication to access the Department of Education network.

• Users are not permitted to copy files to portable electronic media such as compact discs or USB drives.

RECORD ACCESS PROCEDURES:

If you wish to gain access to your record in the system of records, contact the system manager at the address listed above. You must provide necessary particulars such as your name, DOB, SSN, and any other identifying information requested by the Department while processing the request to distinguish between individuals with the same name. Requests by an individual for access to a record must meet the requirements of the regulations in 34 CFR 5b.5, including proof of identity.

CONTESTING RECORD PROCEDURES:

If you wish to change the content of a record regarding you in this system of records, you must contact the system manager at the address listed above and provide your name, DOB, SSN and any other identifying information requested by the Department. Your request must also reasonably identify the record and provide a written justification for the change. Requests to amend a record must meet the regulations in 34 CFR 5b.7.

NOTIFICATION PROCEDURES:

If you wish to determine whether a record exists regarding you in the system of records, contact the system manager at the address listed above. You must provide necessary particulars such as your name, DOB, SSN, and any other identifying information requested by the Department while processing the request to distinguish between individuals with the same name. Requests must meet the requirements of the regulations in 34 CFR 5b.5.

EXEMPTIONS PROMULGATED FOR THE SYSTEM:

None.

HISTORY:

The system of records was originally published in the Federal Register on April 8, 2004 (69 FR 18724).

[FR Doc. 2020-16230 Filed 7-30-20; 8:45 am]

BILLING CODE 4000-01-P